PEACE CORPS

Information Collection Request; Submission for OMB Review

AGENCY: Peace Corps.

ACTION: 30-Day notice and request for comments.

SUMMARY: The Peace Corps will be submitting the following information collection request to the Office of Management and Budget (OMB) for review and approval. The purpose of this notice is to allow 30 days for public comment in the Federal Register preceding submission to OMB. We are conducting this process in accordance with the Paperwork Reduction Act of 1995.

DATES: Submit comments on or before September 8, 2025.

ADDRESSES: Comments should be addressed to James Olin, FOIA/Privacy Act Officer. James Olin can be contacted by email at pcfr@peacecorps.gov or by telephone at (202) 692-2507. Email comments must be made in text and not in attachments.

FOR FURTHER INFORMATION CONTACT: James Olin, Peace Corps, at pcfr@peacecorps.gov or by telephone at (202) 692-2507.

SUPPLEMENTARY INFORMATION:

Title: Donation Form.

OMB Control Number: 0420-0564.

Type of Request: Reapproval of a currently approved collection.

Affected Public: Individuals or households.

Respondents Obligation to Reply: Voluntary.

Burden to the Public:

a. Number of respondents: 13,000.

b. Frequency of response: One time.

c. Completion time: 10 minutes.

d. Annual burden hours: 2,167 hours.

General Description of Collection: These are the forms used by members of the public to donate to the Peace Corps. Information collected allows for Returned Peace Corps Volunteers, networks of currently serving Volunteers, and the public to donate to the agency, a specific Peace Corps Partnership Program (PCPP) project, or Sector and Country Funds. Donors may also give in memory of or in honor of a person of their choosing. The information submitted on the donation form is used internally and on a daily basis by the Office of Gifts and Grants Management (GGM) to coordinate and oversee the agency's gift acceptance authority and implement the PCPP. This supports the agency's three goals, enhances programs through every stage of the Volunteer life cycle, and ensures efficient communication with prospective and current donors.

Request for Comment: Peace Corps invites comments on whether the proposed collection of information is necessary for proper performance of the functions of the Peace Corps, including whether the information will have practical use; the accuracy of the agency's estimate of the burden of the proposed collection of information, including the validity of the information to be collected; and, ways to minimize the burden of the collection of information on those who are to respond, including through the use of automated collection techniques, when appropriate, and other forms of information technology.

This notice is issued in Washington, DC, on August 6, 2025.
James Olin,
FOIA/Privacy Act Officer.

[FR Doc. 2025-15098 Filed 8-7-25; 8:45 am]

BILLING CODE 6051-01-P